DEPARTMENT OF THE INTERIOR

Fish and Wildlife Service

[FWS-R4-R-2008-N0280; 40135-3210-0000-P3]

Fayetteville/Greenville Expansion Project, Texas Gas Transmission, LLC, Right-of-Way Permit Application To Cross Hillside National Wildlife Refuge, Holmes County, MS

AGENCY: Fish and Wildlife Service, Interior.

ACTION: Notice of receipt of right-of-way permit application.

SUMMARY: We, the U.S. Fish and Wildlife Service (Service), request public comment on a right-of-way (ROW) permit application we have received from Texas Gas Transmission, LLC (Texas Gas), to install a 36-inch-diameter natural gas pipeline under lands within Hillside National Wildlife Refuge (Refuge) in Holmes County, MS.

DATES: If you wish to comment on this application, you must do so by December 3, 2008. We will consider public comments received or postmarked by that date.

ADDRESSES: Send comments by U.S. mail to Ken Clough, U.S. Fish and Wildlife Service, 6578 Dogwood View Parkway, Jackson, MS 39213; by facsimile to (601) 965-4010; or by e-mail to ken_clough@fws.gov.

FOR FURTHER INFORMATION CONTACT: For copies of documents and to ask project questions, see “Document Availability.”

SUPPLEMENTARY INFORMATION:

A. Background

We have received a right-of-way (ROW) permit application from Texas Gas to install a 36-inch-diameter natural gas pipeline under lands within the boundary of Hillside National Wildlife Refuge in Holmes County, MS. The proposed use is part of the Texas Gas Fayetteville/Greenville Expansion Project to construct, own, and operate 262.6 miles of 36-inch-diameter natural gas pipeline and associated facilities in the states of Arkansas and Mississippi. The Greenville Lateral, in Mississippi, consists of approximately 96.4 miles in Washington, Sunflower, Humphries, Holmes and Attala Counties. The pipeline will carry natural gas supplies from the Fayetteville Shale production area in north central Arkansas to consumer markets served by Texas Gas and other interstate pipelines. The pipeline is intended to provide increased pipeline capacity from the Fayetteville Shale production area.

Texas Gas proposes to use subsurface Horizontal Directional Drilling (HDD) technology to cross the Refuge lands. The HDD bore and installation of one 36-inch-diameter pipeline will take place between 95 and 115 feet below the surface of Refuge lands. The route will follow an abandoned railroad right-of-way for an estimated 1,405 feet below ground under the northern tip of the Refuge. The entry and exit holes of the HDD bore will be located approximately 1,000 feet outside the Refuge boundary. Texas Gas proposes to cut a 3-foot-wide path across the Refuge directly above the pipe location. The path will be used to hand-lay two electrical grid guide wires for guidance of the underground drill bit. A HDD drilling rig, set up outside the Refuge, will be used to drill along a prescribed underground path. During this process, drilling fluid, bentonite clay, and water will be continuously pumped into the hole to remove cuttings and maintain the integrity of the hole. Bentonite is composed of natural clay minerals. Once the hole has been drilled, a prefabricated segment of pipe will be attached behind a reaming tool on the exit side of the crossing and pulled back through the drill hole to the drill rig, completing the crossing. The time required to complete the HDD is anticipated to be approximately 3-5 weeks, including setup, drilling time, pull-back, cleanup, and demobilization. Actual time drilling under the Refuge lands is estimated at 1 week.

B. Document Availability

Under the National Environmental Policy Act of 1969 (Pub. L. 91-190, 42 U.S.C. 4321-4347), we prepared a compatibility determination and an environmental action statement, and assessed the impacts of constructing and operating the proposed Texas Gas pipeline in order to assist the Federal Energy Regulatory Commission (FERC) in preparing a final environmental impact statement (EIS) for the proposed project. A copy of the compatibility determination is available from the Theodore Roosevelt National Wildlife Refuge Complex, 728 Yazoo Road, Hollandale, MS 38748; (662) 839-2638 (telephone). The final EIS is available for public inspection at: Federal Energy Regulatory Commission, Public References and Files Maintenance Branch, 888 First Street, NE., Room 2A, Washington, DC 20426; (202) 502-8371 (telephone). Additional information about the project is available from FERC's Office of External Affairs, by telephone (1-866-208-FERC) or on the FERC Web site: http://www.ferc.gov.

Interested parties may submit written comments by mail, facsimile, or e-mail to the address in the ADDRESSES section. Before including your address, phone number, e-mail address, or other personal identifying information in your comment, you should be aware that your entire comment—including your personal identifying information—may be made publicly available at any time. While you can ask us in your comment to withhold your personal identifying information from public review, we cannot guarantee that we will be able to do so. After reviewing any comments we receive on the ROW application, we will issue our Record of Decision (ROD). The ROD will describe the rationale for our decision, along with any measures (permit conditions) we will require the applicant to carry out to minimize environmental harm if we have made a decision to issue the ROW permit.

Authority: We publish this notice under 30 U.S.C. 185(k).

Dated: October 28, 2008.
Cynthia K. Dohner,
Acting Regional Director.

[FR Doc. E8-26125 Filed 10-31-08; 8:45 am]

BILLING CODE 4310-55-P